DEPARTMENT OF DEFENSE

Defense Acquisition Regulations System

48 CFR Parts 212, 225, and 252

[DFARS Case 2006-D003]

Defense Federal Acquisition Regulation Supplement; Relocation of Subpart 225.6 to 225.76

AGENCY: Defense Acquisition Regulations System, Department of Defense (DoD).

ACTION: Final rule.

SUMMARY: DoD has issued a final rule amending the Defense Federal Acquisition Regulation Supplement (DFARS) to relocate text addressing trade sanctions, to reflect the removal of the corresponding subpart of the Federal Acquisition Regulation.

EFFECTIVE DATE: July 11, 2006.

FOR FURTHER INFORMATION CONTACT: Ms. Amy Williams, Defense Acquisition Regulations System, OUSD (AT&L) DPAP (DARS), IMD 3C132, 3062 Defense Pentagon, Washington, DC 20301-3062. Telephone (703) 602-0328; facsimile (703) 602-0350. Please cite DFARS Case 2006-D003.

SUPPLEMENTARY INFORMATION:

A. Background

Item VII of Federal Acquisition Circular 2005-09, published at 71 FR 20305 on April 19, 2006, removed FAR Subpart 25.6, Trade Sanctions. Therefore, this final rule removes the corresponding DFARS subpart. The text formerly included in DFARS Subpart 225.6, addressing DoD statutory restrictions relating to the Secondary Arab Boycott of Israel, is relocated to a new DFARS Subpart 225.76 with no substantive change in content.

This rule was not subject to Office of Management and Budget review under Executive Order 12866, dated September 30, 1993.

B. Regulatory Flexibility Act

This rule will not have a significant cost or administrative impact on contractors or offerors, or a significant effect beyond the internal operating procedures of DoD. Therefore, publication for public comment is not required. However, DoD will consider comments from small entities concerning the affected DFARS subparts in accordance with 5 U.S.C. 610. Such comments should cite DFARS Case 2006-D003.

C. Paperwork Reduction Act

The Paperwork Reduction Act does not apply, because the rule does not impose any information collection requirements that require the approval of the Office of Management and Budget under 44 U.S.C. 3501, et seq.

List of Subjects in 48 CFR Parts 212, 225, and 252

Government procurement.

Michele P. Peterson,
Editor, Defense Acquisition Regulations System.

Therefore, 48 CFR parts 212, 225, and 252 are amended as follows:

1. The authority citation for 48 CFR parts 212, 225, and 252 continues to read as follows:

Authority: 41 U.S.C. 421 and 48 CFR Chapter 1.

PART 212—ACQUISITION OF COMMERCIAL ITEMS

212.301 [Amended]

2. Section 212.301 is amended in paragraph (f)(ii), in the second sentence, by removing “(see 225.670-3)” and adding in its place “(see 225.7603)”.

PART 225—FOREIGN ACQUISITION

Subpart 225.6—[Removed]

3. Subpart 225.6 is removed.

225.1103 [Amended]

4. Section 225.1103 is amended as follows:

a. By removing paragraph (2); and

b. By redesignating paragraphs (3) and (4) as paragraphs (2) and (3) respectively.

5. Subpart 225.76 is added to read as follows:

Subpart 225.76—Secondary Arab Boycott of Israel
Sec.
225.7601 Restriction.
225.7602 Procedures.
225.7603 Exceptions.
225.7604 Waivers.
225.7605 Solicitation provision.

Subpart 225.76—Secondary Arab Boycott of Israel

225.7601 Restriction.

In accordance with 10 U.S.C. 2410i, do not enter into a contract with a foreign entity unless it has certified that it does not comply with the secondary Arab boycott of Israel.

225.7602 Procedures.

For contracts awarded to the Canadian Commercial Corporation (CCC), the CCC will submit a certification from its proposed subcontractor with the other required precontractual information (see 225.870).

225.7603 Exceptions.

This restriction does not apply to—

(a) Purchases at or below the simplified acquisition threshold;

(b) Contracts for consumable supplies, provisions, or services for the support of United States forces or of allied forces in a foreign country; or

(c) Contracts pertaining to the use of any equipment, technology, data, or services for intelligence or classified purposes, or to the acquisition or lease thereof, in the interest of national security.

225.7604 Waivers.

The Secretary of Defense may waive this restriction on the basis of national security interests. Forward waiver requests to the Director, Defense Procurement and Acquisition Policy, ATTN: OUSD(AT&L)DPAP(PAIC), 3060 Defense Pentagon, Washington, DC 20301-3060.

225.7605 Solicitation provision.

Unless an exception applies or a waiver has been granted in accordance with 225.7604, use the provision at 252.225-7031, Secondary Arab Boycott of Israel, in all solicitations.

PART 252—SOLICITATION PROVISIONS AND CONTRACT CLAUSES

252.225-7031 [Amended]

6. Section 252.225-7031 is amended in the introductory text by removing “225.1103(2)” and adding in its place “225.7605”.

252.225-7041 [Amended]

7. Section 252.225-7041 is amended in the introductory text by removing “225.1103(3)” and adding in its place “225.1103(2)”.

252.225-7042 [Amended]

8. Section 252.225-7042 is amended in the introductory text by removing “225.1103(4)” and adding in its place “225.1103(3)”.

[FR Doc. E6-10850 Filed 7-10-06; 8:45 am]

BILLING CODE 5001-08-P